FEDERAL COMMUNICATIONS COMMISSION

47 CFR Part 79

[MB Docket No. 12-107; DA 12-1985]

Accessible Emergency Information, and Apparatus Requirements for Emergency Information and Video Description: Implementation of the Twenty-First Century Communications and Video Accessibility Act of 2010

AGENCY: Federal Communications Commission.

ACTION: Proposed rule; extension of reply comment period.

SUMMARY: In this document, the Commission extends the deadline for filing reply comments on the Commission's Notice of Proposed Rulemaking (NPRM) in this proceeding, which was published in the Federal Register. The extension will facilitate the development of a full record given the importance of the issues in this proceeding.

DATES: The reply comment period for the proposed rule published November 28, 2012 (77 FR 70970) is extended. Submit reply comments on or before January 7, 2013.

ADDRESSES: You may submit reply comments, identified by MB Docket No. 12-107, by any of the following methods:

• Federal eRulemaking Portal: http://www.regulations.gov. Follow the instructions for submitting comments.

• Federal Communications Commission's Electronic Comment Filing System (ECFS) Web site: http://www.fcc.gov/cgb/ecfs. Follow the instructions for submitting comments.

• Mail: Filings can be sent by hand or messenger delivery, by commercial overnight courier, or by first-class or overnight U.S. Postal Service mail. All filings must be addressed to the Commission's Secretary, Office of the Secretary, Federal Communications Commission.

• People with Disabilities: Contact the FCC to request reasonable accommodations (accessible format documents, sign language interpreters, CART, etc.) by email: FCC504@fcc.gov or phone (202) 418-0530 or TTY: (202) 418-0432.

For detailed instructions on submitting comments and additional information on the rulemaking process, see the SUPPLEMENTARY INFORMATION section of the NPRM.

FOR FURTHER INFORMATION CONTACT: Diana Sokolow, Diana.Sokolow@fcc.gov, or Maria Mullarkey, Maria.Mullarkey@fcc.gov, of the Policy Division, Media Bureau, (202) 418-2120.

SUPPLEMENTARY INFORMATION: This is a summary of the Commission's Order in MB Docket No. 12-107, DA 12-1985, adopted and released on December 7, 2012, which extends the reply comment filing deadline established in the NPRM published under FCC No. 12-142 at 77 FR 70970, November 28, 2012. The full text of this document is available for inspection and copying during normal business hours in the FCC Reference Center, 445 12th Street SW., Washington, DC 20554. The complete text may be purchased from the Commission's copy contractor, Best Copy and Printing, Inc., 445 12th Street SW., Room CY-B402, Washington, DC 20554. The full text may also be downloaded at: http://www.fcc.gov. Alternative formats are available to persons with disabilities by sending an email to fcc504@fcc.gov or by calling the Consumer & Governmental Affairs Bureau at (202) 418-0530 (voice), (202) 418-0432 (TTY).

Background

1. The NPRM in this proceeding established a comment deadline of December 18, 2012 and a reply comment deadline of December 28, 2012. On December 6, 2012, the Consumer Electronics Association (CEA), the National Association of Broadcasters (NAB), and the National Cable & Telecommunications Association (NCTA) jointly requested that the reply comment deadline be extended by ten days, due to the expected volume of comments, discussion, and data on the complex issues raised in this proceeding, as well as the groundbreaking nature of those issues. We grant the requested extension.

2. As set forth in Section 1.46 of the Commission's Rules, 47 CFR 1.46, the Commission's policy is that extensions of time for filing comments in rulemaking proceedings shall not be routinely granted. Given the importance of the issues in this proceeding and in the interest of encouraging thoughtful consideration of these issues, however, we believe that granting the joint request is warranted to provide commenters with sufficient time to prepare reply comments in response to the NPRM and to facilitate the development of a more complete record.

Ordering Clauses

Pursuant to Section 4(i) of the Communications Act of 1934, as amended, 47 U.S.C. 154(i), and Sections 0.61, 0.283, and 1.46 of the Commission's rules, 47 CFR 0.61, 0.283, and 1.46, the Joint Motion for Extension of Time filed by CEA, NAB, and NCTA is granted, and the deadline to file reply comments in this proceeding is extended to January 7, 2013.

Federal Communications Commission.
William T. Lake,
Chief, Media Bureau.

[FR Doc. 2012-30591 Filed 12-19-12; 8:45 am]

BILLING CODE 6712-01-P